DEPARTMENT OF JUSTICE

Notice of Lodging of Proposed Consent Decree Under the Clean Air Act

On October 29, 2018, the Department of Justice lodged a proposed Consent Decree with the United States District Court for the Northern District of Illinois in the lawsuit entitled United States v. Aux Sable Liquid Products L.P., Civil Action No. 1:18-cv-7198.

The United States filed the lawsuit under the Clean Air Act. The Consent Decree seeks to resolve claims for alleged violations at Aux Sable Liquid Products L.P.'s natural gas processing facility in Morris, Illinois, including (i) monitoring violations involving Leak Detection and Repair and (ii) excess emissions of volatile organic compounds in violation of Non-attainment New Source Review provisions of the Illinois State Implementation Plan. The proposed Consent Decree requires Aux Sable to pay a $2.7 million civil penalty and to perform certain compliance requirements and mitigation measures.

The publication of this notice opens a period for public comment on the proposed Consent Decree. Comments should be addressed to the Assistant Attorney General, Environment and Natural Resources Division, and should refer to United States v. Aux Sable Liquid Products L.P., D.J. Ref. No. 90-5-2-1-11203. All comments must be submitted no later than thirty (30) days after the publication date of this notice. Comments may be submitted either by email or by mail:

To submit comments: | Send them to:
By email | pubcomment-ees.enrd@usdoj.gov.
By mail | Assistant Attorney General, U.S. DOJ-ENRD, P.O. Box 7611, Washington, DC 20044-7611.

During the public comment period, the proposed Consent Decree may be examined and downloaded at this Justice Department website: https://www.justice.gov/enrd/consent-decrees. We will provide a paper copy of the Consent Decree upon written request and payment of reproduction costs. Please mail your request and payment to: Consent Decree Library, U.S. DOJ-ENRD, P.O. Box 7611, Washington, DC 20044-7611.

Please enclose a check or money order for $17.50 (25 cents per page reproduction cost) payable to the United States Treasury.

Randall Stone,
Acting Assistant Section Chief, Environmental Enforcement Section, Environment and Natural Resources Division.

[FR Doc. 2018-23915 Filed 10-31-18; 8:45 am]

BILLING CODE 4410-15-P